DEPARTMENT OF COMMERCE

International Trade Administration

[A-428-844]

Certain Carbon and Alloy Steel Cut-to-Length Plate From the Federal Republic of Germany: Rescission of Antidumping Administrative Review; 2021-2022; Correction

AGENCY: Enforcement and Compliance, International Trade Administration, Department of Commerce.

ACTION: Notice; correction.

SUMMARY: The U.S. Department of Commerce (Commerce) published a notice in the Federal Register of January 24, 2023, in which Commerce rescinded the 2021-2022 administrative review of the antidumping order on certain carbon and alloy steel cut-to-length plate from Germany. In the title of this notice, Commerce incorrectly listed the years for the period of review (POR) for the administrative review and misspelled a word.

DATES: Applicable February 2, 2023.

FOR FURTHER INFORMATION CONTACT: Paul Gill, AD/CVD Operations, Office IX, Enforcement and Compliance, International Trade Administration, U.S. Department of Commerce, 1401 Constitution Avenue NW, Washington, DC 20230; telephone: (202) 482-5673.

SUPPLEMENTARY INFORMATION:

Correction

In the Federal Register of January 24, 2023, in FR Doc 2023-01331, on page 4154, correct the title of the rescission notice to Certain Carbon and Alloy Steel Cut-to-Length Plate from the Federal Republic of Germany: Rescission of Antidumping Administrative Review; 2021-2022.

Background

On January 24, 2023, Commerce published in the Federal Register the Rescission Notice.¹ The title of this notice is incorrectly written as Certain Carbon and Alloy Steel Cut-to-Length Plate from the Federal Republic of Germany: Recission of Antidumping Administrative Review; 2020-2021. In this title, we incorrectly listed the years for the POR of the administrative review and misspelled the word “rescission” as “recission.”

¹ See Certain Carbon and Alloy Steel Cut-to-Length Plate from the Federal Republic of Germany: Recission {sic} of Antidumping Administrative Review; 2020-2021 {sic}, 88 FR 4154 (January 24, 2023) (Rescission Notice).

Notification to Interested Parties

This notice is issued and published in accordance with sections 751(a)(1) and 777(i)(1) of the Tariff Act of 1930, as amended, and 19 CFR 351.213(d)(4).

Dated: January 27, 2023.
James Maeder,
Deputy Assistant Secretary for Antidumping and Countervailing Duty Operations.

[FR Doc. 2023-02170 Filed 2-1-23; 8:45 am]

BILLING CODE 3510-DS-P